FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 28, 2014.

A. Federal Reserve Bank of Philadelphia (William Lang, Senior Vice President) 100 North 6th Street, Philadelphia, Pennsylvania 19105-1521:

1. Red Mountain Partners, L.P., RMCP GP, LLC, Red Mountain Capital Partners LLC, Red Mountain Capital Management, Inc., Willem Mesdag, and Christopher Teets, collectively, to acquire voting shares of Marlin Business Services Corp., Mount Laurel, New Jersey, and thereby indirectly acquire voting shares of Marlin Business Bank, Salt Lake City, Utah.

Board of Governors of the Federal Reserve System, August 8, 2014.
Margaret McCloskey Shanks,
Deputy Secretary of the Board.

[FR Doc. 2014-19122 Filed 8-12-14; 8:45 am]

BILLING CODE 6210-01-P